DEPARTMENT OF TRANSPORTATION

Federal Highway Administration

Rescinding a Notice of Intent To Prepare an Environmental Impact Statement for a Proposed Bridge Replacement Project, Bronx County, NY

AGENCY: Federal Highway Administration (FHWA), Department of Transportation (DOT).

ACTION: Notice to rescind a Notice of Intent to Prepare an Environmental Impact Statement.

SUMMARY: The FHWA, in cooperation with the New York State Department of Transportation (NYSDOT) and the New York City Department of Transportation (NYCDOT), is issuing this Notice to advise the public that we are rescinding the 1999 Notice of Intent (NOI) to Prepare an Environmental Impact Statement (EIS) for a previous proposal to rehabilitate, reconstruct, or replace the Shore Road Bridge (a.k.a. Pelham Park bridge) over the Hutchinson River Project (the Project), in Bronx County, New York [New York State Department of Transportation (NYSDOT) Project Identification Number (PIN) X760.75]. We are rescinding the NOI because a substantial amount of time has passed since its publication and previously identified funding had been realocated to more urgent projects after September 11, 2001.

FOR FURTHER INFORMATION CONTACT: For FHWA: Richard J. Marquis, Division Administrator, Federal Highway Administration, New York Division, Leo W. O'Brien Federal Building, 11A Clinton Avenue, Suite 719, Albany, New York 12207, Telephone: (518) 431-4127, Email: Rick.Marquis@dot.gov. For NYSDOT: Uchenna Madu, NYC Director of Planning & Program Management, New York State Department of Transportation, NYC Region, 47-40 21st Street, Long Island City, New York 11101, Telephone: (718) 482-4559, Email: Uchenna.Madu@dot.ny.gov. For NYCDOT: Naim Rasheed, Assistant Commissioner, New York City Department of Transportation, 55 Water Street, 6th Floor, New York, New York 10041, Telephone: (212) 839-7710, Email: nrasheed@dot.nyc.gov.

SUPPLEMENTARY INFORMATION: The FHWA, in cooperation with the NYSDOT and the NYCDOT, previously intended to prepare an EIS to rehabilitate, reconstruct, or replace the Shore Road Bridge (a.k.a. Pelham Park bridge) on Shore Road in Bronx, County, New York (the Project). The NOI, which was published in the Federal Register on October 21, 1999 (64 FR 56831), indicated that improvements to the bridge were considered necessary to provide for the existing and projected traffic demand, provide for safety improvements (standard shoulders and upgraded sidewalks and bikeways), and because the over 100-year old bridge is suffering structural degradation.

The Shore Road Bridge is an 865-foot-long bridge with seven spans. The main span over the navigation channel is a double-leaf movable bascule span, which is flanked by three concrete arch spans on either side. The bridge and its associated roadway provide access to major interchanges with the Hutchinson River Parkway and Bruckner Expressway west of the bridge and City Island Road east of the bridge. The Project was initiated to improve safety (standard traffic lanes, shoulders, grades, and upgrade bicycle and pedestrian facilities) and to address structural and operational deficiencies of the Shore Road Bridge. As stated in the 1999 NOI, alternatives under consideration included (1) taking no action; (2) using alternate travel modes; (3) rehabilitating the existing bridge, and (4) constructing a new replacement bridge. These potential alternatives, except for taking no action and using alternate travel modes, included the common elements of improving the crossing of Shore Road over the Hutchinson River.

Initially, the Project was not progressed because the budget allocated for the Project was reprioritized to more urgent projects after September 11, 2001. At that time, a long-term rehabilitation cost was estimated at 44 million dollars and new bridge construction alternatives costs ranged between approximately 62 and 122 million. Given funding constraints at the time, NYCDOT conducted a less costly major interim rehabilitation, completed in 2002, which addressed various imminent structural, safety, mechanical, and electrical issues on the bridge. The interim rehabilitation was progressed to prolong the bridge's service life until the environmental review and design approval process for the Project could be completed.

Since 2002, bridge components have been repaired as needed when deterioration was noted in biennial inspection reports. Interim rehabilitation and occasional repairs prolonged the service life of the Shore Road Bridge but did not negate the eventual need to reassess another rehabilitation or replacement project. Subsequent to the interim rehabilitation, the Great Recession of 2007-2009 resulted in revenue losses that caused city agencies to reprioritize funding for projects. In 2012, Hurricane Sandy caused extensive damage to NYCDOT and other city-owned facilities, which again diverted funding to address emergency repair work required in the aftermath of the storm. For these reasons and because a substantial amount of time has passed since the 1999 NOI was published, the 1999 NOI is being rescinded.

The FHWA, NYSDOT, and NYCDOT will be evaluating a reasonable range of alternatives for the Shore Road Bridge over the Hutchinson River Project as a new proposed action, and an NOI for that action will be issued separately. Comments or questions concerning this recission should be directed to the FHWA, NYSDOT, and NYCDOT at the addresses provided in the For Further Information Contact section of this Notice.

(Catalog of Federal Domestic Assistance Program Number 20.205, Highway Research, Planning and Construction. The regulations implementing Executive Order 12372 regarding intergovernmental consultation on Federal programs and activities apply to this program).

Authority: 42 U.S.C. 4321 et seq.; 23 CFR part 771.

Issued on: April 30, 2021.
Richard J. Marquis,
Division Administrator, Albany, New York.

[FR Doc. 2021-09589 Filed 5-5-21; 8:45 am]

BILLING CODE 4910-22-P